DEPARTMENT OF THE INTERIOR

Fish and Wildlife Service

[Docket No. FWS-HQ-IA-2022-0142; FXIA167109CWT01/234/FF09A40000; OMB Control Number 1018-New]

Agency Information Collection Activities; CITES Masters Course

AGENCY: Fish and Wildlife Service, Interior.

ACTION: Notice of information collection; request for comment.

SUMMARY: In accordance with the Paperwork Reduction Act of 1995, we, the U.S. Fish and Wildlife Service (Service), are proposing a new information collection in use without Office of Management and Budget (OMB) approval.

DATES: Interested persons are invited to submit comments on or before April 17, 2023.

ADDRESSES: Send your comments on the information collection request (ICR) by one of the following methods (please reference 1018-CITES in the subject line of your comments):

• internet (preferred): https://www.regulations.gov. Follow the instructions for submitting comments on Docket No. FWS-HQ-IA-2022-0142.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Wildlife trafficking ranks as the second greatest threat to species survival after habitat destruction. The United States (U.S.) recognizes wildlife trafficking as a serious transnational crime that threatens thousands of plant and animal species and undermines U.S. priorities, including national security, human health, and economic growth. The Service employs a science-based approach to counter wildlife trafficking, including through the implementation of the Convention on International Trade in Endangered Species of Wild Fauna and Flora (CITES). CITES is the sole global treaty dedicated to preventing the unsustainable trade in plants and animals and is an essential component to counter illegal wildlife trade as it provides mechanisms and incentives to effectively manage natural resources. The U.S. has been a Party to the Convention since 1973. Under the Endangered Species Act, the Service has been designated to carry out the provision of CITES for the U.S.

As one of the largest and oldest environmental treaties in the world, CITES is a key conservation tool for the protection of 35,000 plant and animal species. Currently 183 countries have agreed to implement the Convention. However, realizing the full conservation impact of CITES remains challenging and is highly dependent on each country's financial and technical capacity. Even when a Party has the political will and desire to implement CITES, it may not have the resources, systems, or personnel to effectively follow the Conventions' mandate, such as evaluating permit applications or enforcing laws. This creates inequity between countries in how the Convention is implemented, with serious downstream impacts such as the degradation of wild populations and ecosystems, often resulting in negative implications for communities living among wildlife.

To help develop the technical expertise necessary to effectively implement CITES, the International University of Andalucía (UNIA) has offered a unique master's degree program entitled “The Management and Conservation of Species in Trade: The International Framework” (also known as the “CITES Master's Course”). The program, which was established in 1997, provides high-quality training focusing on the scientific foundations, techniques and mechanisms of CITES implementation. Approximately 400 students have graduated from the program, many becoming leaders in CITES and global policy.

Recognizing the important potential offered through UNIA's CITES Master's Course, the Service provides scholarships to support wildlife professionals interested in furthering their CITES expertise by partaking in the CITES Master's Course, with a focus on countries most vulnerable to illegal and unsustainable wildlife trade. The competitive scholarships cover costs for tuition, lodging, and supplies, provide an opportunity for the scholars to participate in the CITES Conference of the Parties, and offer technical and financial research support.

The Service collaborates with the Department of Interior's International Technical Assistance Program (DOI-ITAP) through an interagency agreement to manage the numerous logistics associated with the scholarships. Scholarships support cohorts of students from Latin America, the Caribbean, and Central and East Africa. The Service and DOI-ITAP staff solicit recommendations from relevant CITES authorities, NGOs, and U.S. Government agencies working in those countries to select top candidates for the scholarships. Recommendations are provided through direct communication with project leads, most often via email communication. Project leads review application packages submitted by candidates for the program.

We choose candidates based on certain criteria such as the quality of their application, their present or future contribution to their country's CITES work, and their demonstration of a lasting commitment to wildlife conservation and CITES implementation. Selected candidates then follow a separate application process for acceptance into the International University of Andalucía CITES Master's Course. Although scholarship activities aid the candidates to assemble and submit application materials the University, the U.S. Government does not influence who is accepted into the graduate program.

We ask the successful scholars accepted into the master's program to assist in project monitoring and evaluation by responding to periodic assessment surveys throughout the course of their one-year graduate experience so project officers can gauge the impact and effectiveness of the training. After graduating, the scholars are requested to fill out an assessment to further our understanding of the course's impact. We also ask students to help develop communication and outreach materials to share the impacts of the scholarships with partners and the public.

Course enrollees are asked to complete pre- and post-training assessments which collects the following information:

• Trainee information, to include:

—Name,

—Gender,

—Age range,

—Institution represented,

—Job title/position,

—Contact information such as their include complete address, phone numbers, and email, and

—Country.

• Trainee's assessment of training—Questions provide participants an opportunity to offer feedback on their training to help inform how we can improve project activities and goals.

• Potential effect of training on the trainee's job—Questions provide an opportunity for participants to share how the technical training provided through the scholarships may open professional opportunities.

• Knowledge of biodiversity and CITES—Questions are designed to measure the impact of training by quantifying changes in each participant's knowledge of biodiversity and CITES between pre- and post-training assessments.

• Capacity to apply knowledge on biodiversity and CITES—Questions are designed to measure the impact in training by quantifying changes in knowledge between pre- and post-training assessments.

The Service will use the information collected to ensure project activities are meeting high project standards and are achieving intended outcomes. In addition, information collected for project outreach and communication will be used to inform the public on project outcomes and to garner interest in future scholarship opportunities.

The public may request copies of the application form contained in this information collection by sending a request to the Service Information Collection Clearance Officer in ADDRESSES, above.

Title of Collection: CITES Masters Course.

OMB Control Number: 1018-New.

Form Number: None.

Type of Review: Existing information collection in use without OMB approval.

Respondents/Affected Public: Program participants from foreign public sector and foreign government entities.

Respondent's Obligation: Required to obtain or retain a benefit.

Frequency of Collection: Annually.

Total Estimated Annual Nonhour Burden Cost: None.

Requirement | Average number of annual respondents | Average number of responses each | Average number of annual responses | Average completion time per response | Estimated annual burden hours *
Nomination/Application:
Private Sector | 3 | 1 | 3 | 1 hour | 3
Government | 30 | 1 | 30 | 1 hour | 30
Pre-Assessment Questionnaire:
Private Sector | 1 | 1 | 1 | 20 minutes | 0
Government | 14 | 1 | 14 | 20 minutes | 5
Post-Assessment Questionnaire:
Private Sector | 1 | 1 | 1 | 20 minutes | 0
Government | 14 | 1 | 14 | 20 minutes | 5
Totals | 63 |  | 63 |  | 43
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-03092 Filed 2-13-23; 8:45 am]

BILLING CODE 4333-15-P